DEPARTMENT OF TRANSPORTATION

Federal Motor Carrier Safety Administration

[Docket No. FMCSA-2014-0196]

Agency Information Collection Activities; New Information Collection Request: FMCSA Annual Grant Program Effectiveness Survey

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. The purpose of this information collection is to acquire the perspectives of FMCSA State partners who support the operation, regulation and enforcement of various mutually-beneficial safety programs. This knowledge will improve the Federal government's understanding of the effectiveness of commercial motor vehicle (CMV) safety related grant programs. The FMCSA is interested in surveying grant recipients to collect information on the strengths, weaknesses, and effectiveness of FMCSA grant programs with the intent of improving our capacity to meet the needs of our grantees. FMCSA needs this information to support program evaluation endeavors, program management, and fiscal decision making. FMCSA will use the results in various analyses conducted by FMCSA designed to assess the effectiveness of existing rules, grant programs, and safety programs.

DATES: We request your comments on or before December 8, 2014.

ADDRESSES: You may submit comments identified by Federal Docket Management System (FDMS) Docket Number FMCSA-2014-0196 using any of the following methods:

• Federal eRulemaking Portal: Go to http://www.regulations.gov. Follow the on-line instructions for submitting comments.

• Fax: 1-202-493-2251.

• Mail: Docket Management Facility; U.S. Department of Transportation, 1200 New Jersey Avenue SE., West Building, Ground Floor, Room W12-140, Washington, DC 20590-0001.

• Hand Delivery or Courier: West Building, Ground Floor, Room W12-140, 1200 New Jersey Avenue SE., Washington, DC 20590-0001 between 9:00 a.m. and 5:00 p.m., e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone may search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval assistance and guidelines under the “help” section of the Federal eRulemaking Portal Web site. If you want FMCSA to notify you that we received your comments, please include a self-addressed, stamped envelope or postcard, or print your request on the acknowledgement page that appears after submitting comments online. Comments received after the comment closing date will be included in the docket and will be considered to the extent practicable.

FOR FURTHER INFORMATION CONTACT: Mr. Eugene Johnson, Strategic Planning, and Program Evaluation Division, Office of Policy, Strategic Planning and Regulations, Federal Motor Carrier Safety Administration, 1200 New Jersey Ave. SE., Washington, DC 20590. Telephone: (202) 366-5490; email Eugene.Johnson@dot.gov. Office hours are from 9 a.m. to 5 p.m., Monday through Friday, except Federal holidays. If you have questions on viewing material in the docket, contact Docket Operations (202) 366-9826.

SUPPLEMENTARY INFORMATION:

Background: The Federal Motor Carriers Safety Administration (FMCSA) needs a survey of its State partner-grant recipients who support the operation, regulation and enforcement of various mutually-beneficial safety programs. This knowledge will improve the Federal government's understanding of the effectiveness of commercial motor vehicle (CMV) safety related grant programs. The FMCSA is interested in surveying grant recipients to collect information on the strengths, weaknesses, and effectiveness of FMCSA grant programs.

In 2009, the Government Accountability Office (GAO) issued a final report on a FMCSA grant program called Performance Registration Information System Management PRISM. The GAO reported was entitled, “Motor Carrier Safety: Commercial Vehicle Registration Program Has Kept Carriers from Operating, but Effectiveness Is Difficult to Measure, GAO-09-495.” The GAO recommended FMCSA measure the PRISM program's effectiveness when the number of States that have the ability to deny, suspend, or revoke registrations of CMVs operated by OOS carriers is sufficient to make such measurements meaningful.

The authority to require Federal Agencies to monitor grants is 2 CFR Chapter I, and Chapter II Parts 200, 215, 220, 225, and 230 Uniform Administrative Requirements, Cost Principles, and Audit Requirements for Federal Awards. OMB Circular A-110, Reports and Records, sections 50 through 53 set forth the procedures for monitoring and reporting on the recipient's financial and program performance and the necessary standard reporting forms.

The Agency proposes to collect the data for this project via electronic mail surveys and conduct clarifying interviews as appropriate. The information collection supports the DOT's Strategic Goal of Safety, and will help confirm whether the program(s) improve public health and safety by reducing transportation-related fatalities and injuries. Therefore, the purpose of this ICR is to conduct a survey using Form MCSA-5888 to evaluate the effectiveness of FMCSA's grant programs through the use of in-person interviews and electronic surveys. The survey will not be statistical in nature, as the intention is to receive the comments of all affected state partners. The survey will not exceed 30 questions and the complexity of the question structure will be Likert scale and short responses. The decision to use the Likert scale over the ordinal scale is the numbers in the ordinal level indicate the relative position of items, but not the magnitude of difference that you get from the Likert scale. For example, the survey will present a question like “The grant funding provided in support of your program is adequate to meet all aspects of the mission.” The response options may include:

1. Strongly disagree

2. Disagree

3. Neural

3. Agree

4. Strongly agree

5. Not Applicable

The Agency will use this information to establish a baseline of our grant programs from the grantee's perspective for use in future grant-related decision making, to include: (1) Assessing the impacts of proposed rules, (2) identifying potential improvements in its grant supported safety programs, and (3) complement future budget and resource related decisions.

Title: FMCSA Annual Grant Program Effectiveness Survey.

OMB Control Number: 2126-00XX.

Type of Request: New information collection.

Respondents: State Grant Recipients.

Estimated Number of Respondents: 50 State Respondents.

Estimated Time per Response: 45 minutes per response.

Expiration Date: N/A. This is a new ICR.

Frequency of Response: Once.

Estimated Total Annual Burden: 49 hours [(50 electronic mail-in respondents × 45 minutes/60 minutes) + (15 State personnel interviews × 45 minutes/60 minutes) = 49]. Minutes per response = 48.75 rounded to 49.]

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority delegated in 49 CFR 1.87 on: September 30, 2014.
G. Kelly Regal,
Associate Administrator, Office of Research and Information Technology and Chief Information Officer.

[FR Doc. 2014-23994 Filed 10-7-14; 8:45 am]

BILLING CODE 4910-EX-P